DEPARTMENT OF HEALTH AND HUMAN SERVICES

National Institutes of Health

National Institute of Allergy and Infectious Diseases; Amended Notice of Meeting

Notice is hereby given of a change in the meeting of the National Advisory Allergy and Infectious Diseases Council, May 18, 2009, 8:30 a.m. to May 18, 2009, 5 p.m., National Institutes of Health, Natcher Building, 45 Center Drive, Conference Rooms E1/E2, Bethesda, MD, 20892 which was published in the Federal Register on January 14, 2009, 74 FR 2083.

The full council will meet in closed session from 12:15 p.m. to 1:15 p.m. to discuss changes in the ECB. This discussion will involve confidential material. Subcommittee meetings that were to start at 1 p.m. will begin at 1:30 p.m. The meeting is partially closed to the public.

Dated: March 19, 2009.
Jennifer Spaeth,
Director, Office of Federal Advisory Committee Policy.

[FR Doc. E9-6596 Filed 3-24-09; 8:45 am]

BILLING CODE 4140-01-P